DEPARTMENT OF COMMERCE

[Docket No. 150421388-5388-01]

Privacy Act of 1974, New System of Records

AGENCY: International Trade Administration, U.S. Department of Commerce.

ACTION: Notice of a New Privacy Act System of Records: COMMERCE/ITA-8, Salesforce Customer Relationship Management System.

SUMMARY: In accordance with the Privacy Act of 1974, as amended, Title 5 United States Code (U.S.C.) § 552a(e)(4) and (11); and Office of Management and Budget (OMB) Circular A-130, Appendix I, Federal Agency Responsibilities for Maintaining Records About Individuals, The Department of Commerce is issuing this notice of its intent to establish a new system of records entitled “COMMERCE/ITA-8, Salesforce Customer Relationship Management System.”

DATES: Comment Date: To be considered, written comments on the proposed system must be submitted on or before June 10, 2015.

Effective Date: Unless comments are received, the new system of records will become effective as proposed on the date of publication of a subsequent notice in the Federal Register.

ADDRESSES: You may submit written comments to Ms. Lois V. Mockabee, International Trade Administration Privacy Act Officer, U.S. Department of Commerce, International Trade Administration, 1401 Constitution Avenue NW., Room 21023, Washington, DC 20230.

FOR FURTHER INFORMATION CONTACT: Ms. Lois V. Mockabee, International Trade Administration, 1401 Constitution Avenue NW., Room 21023, Washington, DC 20230. (202) 482-6111.

SUPPLEMENTARY INFORMATION: The purpose of this new information system will be to help ITA promulgate its mission by promoting and fostering international trade opportunities between small and medium-sized U.S. businesses and international trading partners. The Salesforce Relationship Management System is a Web-based software product designed to acquire, retain, and grow customer relationships by automating sales and customer support activities and providing a holistic view of the customer relationship across the organization.

COMMERCE/ITA-8

SYSTEM NAME:

COMMERCE/ITA-8, Salesforce Relationship Management System.

SECURITY CLASSIFICATION:

None.

SYSTEM LOCATION:

U.S. Department of Commerce, 1401 Constitution Avenue NW., Chief Information Officer, Room 48002, Washington, DC 20230.

CATEGORIES OF INDIVIDUALS COVERED BY THE SYSTEM:

Customer Biographical Information; Resource Provider and Local Business Assistance Organization Information; U.S. exporting companies and/or individuals involved in an ongoing exporting concern; U.S. private citizens, students and/or researchers.

CATEGORIES OF RECORDS IN THE SYSTEM:

For Customer Biographical Information Category—individual customer name, company name, personal or business email address, personal or business telephone number, personal or business fax number, personal or business mailing address, date and time of contact, customer service agent name, customer number, industry, contact type, year(s) in business, size of firm, company Web site (URL), ownership, years in exporting, countries exported to, number of employees, annual revenue, service need, customer request, service resolution, contact experience, service satisfaction, service recommendation(s)/referral(s), contact preference, and desire to be contacted to discuss survey results; and for Resource Provider and Local Business Assistance Organization Information Category—submitter name, submitter email address, resource name, resource summary description, name of resource point of contact (POC), POC title, POC email, and POC telephone; press articles; topic of contact; U.S. or non-U.S. organization; the country(ies) of interest; and log in name and password.

AUTHORITY FOR MAINTENANCE OF THE SYSTEM:

15 U.S.C. 1512

PURPOSES:

The purpose of this system is to assemble the necessary information to assist customers in connecting with business assistance services, programs, data and other resources in a larger effort to help the economy by supporting small and medium sized businesses and exporters financial growth; as well as creating jobs that will help ITA in promulgating its mission by promoting and fostering international trade opportunities between small and medium sized U.S. business and international trading partners. This system serves as a controlled repository for customer data and available business resource summary information. The information obtained from the Salesforce Customer Relationship Management System (SFCRM) is used to monitor the system's performance, provide customer information to Federal agency and bureau partners, and Federal partners' sponsored organizations to further serve the customer, and to obtain customer feedback concerning their service experience and the level of satisfaction provided by SFCRM and the serving agency.

ROUTINE USES OF RECORDS MAINTAINED IN THE SYSTEM, INCLUDING CATEGORIES OF USERS AND THE PURPOSES OF SUCH USES:

These records may be disclosed as follows:

1. In the event that a system of records maintained by the Department to carry out its functions indicates a violation or potential violation of law or contract, whether civil, criminal or regulatory in nature, and whether arising by general statute or particular program statute or contract, or rule, regulation, or order issued pursuant thereto, or the necessity to protect an interest of the Department and Federal partners, the relevant records in the system of records may be referred to the appropriate agency, whether Federal, state, local or foreign, charged with the responsibility of investigating or prosecuting such violation or charged with enforcing or implementing the statute or contract, or rule or order issued pursuant thereto, or protecting the interest of the Department.

2. A record from this system of records may be disclosed to federal agency partners including: the Small Business Administration (SBA), Department of Defense (DOD), Department of Veteran Affairs (VA), U.S. Environmental Protection Agency (EPA), U.S. Housing and Urban Development (HUD), Department of Health and Human Services (HHS), General Services Administration (GSA), United States Department of Agriculture (USDA), Department of Energy (DOE), Office of Management and Budget (OMB), Department of State, Export/Import Bank, Overseas Private Investment Corporation (OPIC), Department of Transportation (DOT), Department of Treasury, Department of Justice (DOJ), National Science Foundation (NSF), U.S. Trade Development Agency (USTDA), Department of Education, Department of Labor (DOL), Department of Interior (DOI), Department of Homeland Security (DHS), and the National Aeronautical and Space Administration (NASA) in connection with the assignment, based on customer need, and programs for the purpose of linking American businesses to available government business resources.

3. A record from this system of records may be disclosed to Federal partners' sponsored organizations, including Federal grantees and/or certified organizations involved in business development efforts and assistance such as: DOC's National Institute of Standards and Technology (NIST) Hollings Manufacturing Extension Partnership (MEP) Centers, DOC's NIST Manufacturing Technology Acceleration Centers (MTAC), DOC's Economic Development Administration (EDA) University Centers, DOC's Minority Business Development Agency (MBDA) Business Centers, Native American Business Enterprise Centers and Procurement Assistance Centers, DOC's International Trade Administration (ITA) Trade Promotion Coordinating Committee (TPCC), DOD's Procurement Technical Assistance Centers (PTAC), SBA's Small Business Development Centers (SBDC), Small Business and Technology Development Centers (SBTDC), Women Business Centers (WBC), Veteran Business Outreach Centers (VBOC), Service Corps of Retired Executives (SCORE), DOT's Small Business Transportation Resource Centers (SBTRC), and Treasury's Community Development Financial Institutions (CDFI), in connection with the assignment, based on customer need, and programs for the purpose of linking American businesses to available business resources.

4. A record from this system of records may be disclosed to partner state governments, local governments, Non-Profit business development and assistance organizations, in connection with the assignment, based on customer need, and programs for the purpose of linking American businesses to available business resources.

5. A record in this system of records may be disclosed to a Member of Congress submitting a request involving an individual when the individual has requested assistance from the Member with respect to the subject matter of the record.

6. A record in this system of records may be disclosed to the Department of Justice in connection with determining whether disclosure thereof is required by the Freedom of Information Act (5 U.S.C. 552).

7. A record in this system of records may be disclosed to a contractor of the Department having need for the information in the performance of the contract, but not operating a system of records within the meaning of 5 U.S.C. 552a(m).

8. A record from this system of records may be disclosed to the Administrator, General Services Administration (GSA), or his/her designee, during an inspection of records conducted by GSA as part of that agency's responsibility to recommend improvements in records management practice and programs, under the authority of 44 U.S.C. 2904 and 2906. Such disclosure shall be made in accordance with the GSA regulations governing inspection of records for this purpose, and any other relevant (i.e. GSA or Commerce) directive. Such disclosure shall not be used to make determinations about individuals.

9. A record from this system of records may be disclosed in the course of presenting evidence to a court, magistrate or administrative tribunal, including disclosures to opposing counsel in the course of settlement negotiations.

10. A record in this system of records may be disclosed, as a routine use, to appropriate agencies, entities and persons when (1) it is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

DISCLOSURE TO CONSUMER REPORTING AGENCIES:

Not applicable.

POLICIES AND PRACTICES FOR STORING, RETRIEVING, ACCESSING, RETAINING, AND DISPOSING OF RECORDS IN THE SYSTEM:

STORAGE:

On electronic digital media in encrypted format within a controlled environment, and accessed only by authorized personnel.

RETRIEVABILITY:

By individual's name, business name, or other identifier such as email address or telephone number.

SAFEGUARDS:

Maintained in areas accessible only to authorized personnel in a building protected by security guards. System is password protected and is FIPS 199 compliant. System adheres to a Moderate security rating.

RETENTION AND DISPOSAL:

All records shall be retained and disposed of in accordance with Department directives and series records schedule.

SYSTEM MANAGER(S) AND ADDRESS:

System Administrator, addresses are the same as listed under System Location.

NOTIFICATION PROCEDURE:

An individual requesting notification of existence of records on himself or herself should send a signed, written inquiry to the U.S. Department of Commerce, International Trade Administration Privacy Act Office at 1401 Constitution Ave. NW., Room 21023, Washington, DC 20230. The request letter should be clearly marked, “PRIVACY ACT REQUEST.” The written inquiry must be signed and notarized or submitted with certification of identity under penalty of perjury. Requesters should reasonable specify the record contents being sought.

RECORD ACCESS PROCEDURES:

An individual requesting access to records on himself or herself should send a signed, written inquiry to the same address as stated in the Notification Procedure section above. The request letter should be clearly marked, “PRIVACY ACT REQUEST.” The written inquiry must be signed and notarized or submitted with certification of identity under penalty of perjury. Requesters should reasonably specify the record contents being sought.

CONTESTING RECORDS PROCEDURES:

An individual requesting correction or contesting information contained in his or her records must send a signed, written request inquiry to the U.S. Department of Commerce, International Trade Administration Privacy Act Office, and 1401 Constitution Ave., NW., Room 21023, Washington, DC 20230. Requesters should reasonably identify the records, specify the information they are contesting and state the corrective action sought and the reasons for the correction with supporting justification showing how the record is incomplete, untimely, inaccurate, or irrelevant.

RECORD SOURCE CATEGORIES:

Subject individuals; individuals who interact with the ITA through social media networks or as a result of public outreach.

EXEMPTIONS CLAIMED FOR THE SYSTEM:

None.

Dated: May 4, 2015.
Brenda Dolan,
Department of Commerce, Freedom of Information and Privacy Act Officer.

[FR Doc. 2015-11310 Filed 5-8-15; 8:45 am]

BILLING CODE 3510-25-P